SECURITIES AND EXCHANGE COMMISSION

Sunshine Act Meeting

Federal Register Citation of Previous Announcement: 71 FR 28892, May 18, 2006.

Status: Closed meeting.

Place: 100 F Street, NE., Washington, DC.

Date and Time of Previously Announced Meeting: Monday, May 22, 2006, at 11 a.m. and Thursday, May 25, 2006, at 2 p.m.

Change in the Meeting: Additional items.

The Commission considered the following item during the closed meeting scheduled for Monday, May 22, 2006: Settlement of an injunctive action.

The General Counsel of the Commission, or his designee, has certified that, in his opinion, one or more of the exemptions set forth in 5 U.S.C. 552b(c)(5), (7), (9)(B), (10) and 17 CFR 200.402(a)(5), (7), (9)(ii), and (10) permit consideration of the scheduled matters at the closed meeting.

The post-argument discussion previously announced for Monday, May 22, 2006 will be considered during the closed meeting on Thursday, May 25, 2006.

Commissioner Atkins, as duty officer, determined that Commission business required the above changes and that no earlier notice thereof was possible.

At times, changes in Commission priorities require alterations in the scheduling of meeting items. For further information and to ascertain what, if any, matters have been added, deleted or postponed, please contact: The Office of the Secretary at (202) 551-5400.

Dated: May 22, 2006.
Nancy M. Morris,
Secretary.

[FR Doc. 06-4917 Filed 5-24-06; 11:16 am]

BILLING CODE 8010-01-P